DEPARTMENT OF ENERGY

Federal Energy Regulatory Commission

Combined Notice of Filings No. 2

Tuesday, September 7, 2010.

Take notice that the Commission has received the following Natural Gas Pipeline Rate and Refund Report filings:

Docket Numbers: RP10-1168-001.

Applicants: Trans-Union Interstate Pipeline, L.P.

Description: Trans-Union Interstate Pipeline, L.P. submits tariff filing per 154.203: Trans-Union Order 587-U Compliance Filing to Modify Tariff to be effective 9/1/2010.

Filed Date: 09/01/2010.

Accession Number: 20100901-5128.

Comment Date: 5 p.m. Eastern Time on Monday, September 13, 2010.

Docket Numbers: RP10-963-001.

Applicants: Granite State Gas Transmission, Inc.

Description: Granite State Gas Transmission, Inc. submits tariff filing per 154.203: Version 1.9 Compliance to be effective 11/1/2010.

Filed Date: 09/01/2010.

Accession Number: 20100901-5058.

Comment Date: 5 p.m. Eastern Time on Monday, September 13, 2010.

Docket Numbers: RP10-1018-001.

Applicants: Paiute Pipeline Company.

Description: Paiute Pipeline Company submits tariff filing per 154.203: NAESB—Version 1.9 to be effective 11/1/2010.

Filed Date: 09/02/2010.

Accession Number: 20100902-5077.

Comment Date: 5 p.m. Eastern Time on Tuesday, September 14, 2010.

Docket Numbers: RP10-1050-001.

Applicants: Portland General Electric Company.

Description: Portland General Electric Company submits tariff filing per 154.203: PGE Gas Tariff Volume 1 to be effective 9/2/2010.

Filed Date: 09/02/2010.

Accession Number: 20100902-5151.

Comment Date: 5 p.m. Eastern Time on Tuesday, September 14, 2010.

Docket Numbers: RP10-1115-001.

Applicants: Millennium Pipeline Company, LLC.

Description: Millennium Pipeline Company, LLC submits tariff filing per 154.203: NAESB Errata to be effective 9/17/2010.

Filed Date: 09/02/2010.

Accession Number: 20100902-5162.

Comment Date: 5 p.m. Eastern Time on Tuesday, September 14, 2010.

Docket Numbers: RP10-147-005.

Applicants: Natural Gas Pipeline Company of America LLC.

Description: Natural Gas Pipeline Company of America LLC submits First Revised Sheet 306 et al to its FERC Gas Tariff, Seventh Revised Volume 1 to be effective 10/2/10.

Filed Date: 09/02/2010.

Accession Number: 20100903-0202.

Comment Date: 5 p.m. Eastern Time on Tuesday, September 14, 2010.

Docket Numbers: RP10-922-001.

Applicants: Venice Gathering System, L.L.C.

Description: Venice Gathering System, L.L.C. submits tariff filing per 154.205(b): Errata Filing for NAESB 1.8 to be effective 7/1/2010.

Filed Date: 09/02/2010.

Accession Number: 20100902-5035.

Comment Date: 5 p.m. Eastern Time on Tuesday, September 14, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-26853 Filed 10-22-10; 8:45 am]

BILLING CODE 6717-01-P